DEPARTMENT OF AGRICULTURE

Cooperative State Research, Education, and Extension Service

Decision Support, Education, and Workforce Development Through Geospatial Extension Specialists Program: Request for Applications and Request for Input

AGENCY: Cooperative State Research, Education, and Extension Service, USDA.

ACTION: Notice of request for applications and request for input.

SUMMARY: As part of a collaborative, interagency effort, the Cooperative State Research, Education, and Extension Service (CSREES) of the U.S. Department of Agriculture (USDA) is soliciting applications for the Decision Support, Education, and Workforce Development through Geospatial Extension Specialists (GES) Program for fiscal year (FY) 2004 to support programmatic activities (1) in states that establish new Geospatial Extension Specialist positions, and (2) in on-going Geospatial Extension Specialist programs. Beginning with the use of FY 2003 funds in this RFA, the participating agencies anticipate allocating a total of approximately $1 million over three years to fund the GES Program.

The GES Program is supported by CSREES, the Earth Science Enterprise (ESE) of the National Aeronautics and Space Administration (NASA), and the National Sea Grant College Program of the National Oceanic and Atmospheric Administration (NOAA), Department of Commerce (DOC) as described in this Request for Applications (RFA). CSREES will administer GES Program grants and cooperative agreements.

DATES: Applications must be received by close of business (COB) on March 1, 2004, (5 p.m. eastern standard time). Applications received after this deadline will not be considered for funding. Comments regarding this RFA are requested within three months from the issuance of this notice. Comments received after that date will be considered to the extent practicable.

ADDRESSES: The address for hand-delivered applications or applications submitted using an express mail or overnight courier service is: Geospatial Extension Specialists Program; c/o Proposal Services Unit; Cooperative State Research, Education, and Extension Service; U.S. Department of Agriculture; Room 1420, Waterfront Centre; 800 9th Street, SW.; Washington, DC 20024; Telephone: (202) 401-5048.

Applications sent via the U.S. Postal Service must be sent to the following address: Geospatial Extension Specialists Program; c/o Proposal Services Unit; Cooperative State Research, Education, and Extension Service; U.S. Department of Agriculture; STOP 2245; 1400 Independence Avenue, SW.; Washington, DC 20250-2245.

Written stakeholder comments should be submitted by mail to: Policy and Program Liaison Staff; Office of Extramural Programs; USDA-CSREES; STOP 2299; 1400 Independence Avenue, SW.; Washington, DC 20250-2299; or via e-mail to: RFP-OEP@csrees.usda.gov. (This e-mail address is intended only for receiving comments regarding this RFA and not requesting information or forms.) In your comments, please state that you are responding to the Geospatial Extension Specialists Program RFA.

FOR FURTHER INFORMATION CONTACT: Greg Crosby; National Program Leader; Cooperative State Research, Education, and Extension Service; U.S. Department of Agriculture; STOP 2210; 1400 Independence Avenue, SW.; Washington, DC 20250-2210; Telephone: (202) 401-6050; Fax: (202) 401-1706; E-mail: gcrosby@csrees.usda.gov; or Mr. Edwin Sheffner; Earth Science Enterprise, Code YO; National Aeronautics and Space Administration; 300 E Street, SW.; Washington, DC 20546; telephone: (202) 358-0239; fax: (202) 358-2770; e-mail: edwin.j.sheffner@nasa.gov; or Mr. Rodney McKellip; Earth Science Applications Directorate; John C. Stennis Space Center; Code MA00 Bldg. 1100; SCC, MS 29529-6000; telephone: (228) 688-2984; fax: (228) 688-7455; e-mail: rmckelli@ssc.nasa.gov.

SUPPLEMENTARY INFORMATION:

Table of Contents

Stakeholder Input

Catalog of Federal Domestic Assistance

Part I. General

A. Legislative Authority and Background

B. Purpose, Priorities and Fund Availability

C. Eligibility

D. Indirect Costs

E. Matching Requirements

F. Funding Restrictions

G. Types of Applications

Part II. Program Description

A. Project Types

B. Program Description

Part III. Preparation of an Application

A. Program Application Materials

B. Content of Applications

C. Submission of Applications

D. Acknowledgment of Applications

Part IV. Review Process

A. General

B. Evaluation Criteria

C. Conflicts of Interest and Confidentiality

Part V. Award Administration

A. General

B. Organizational Management Information

C. Award Document and Notice of Award

Part VI. Additional Information

A. Access to Review Information

B. Use of Funds; Changes

C. Expected Program Outputs and Reporting Requirements

D. Applicable Federal Statutes and Regulations

E. Safety

F. Confidential Aspects of Applications and Awards

G. Regulatory Information

H. Grants.gov Implementation Plans

I. DUNS Number

J. Required Registration for Grants.gov

Stakeholder Input

CSREES is requesting comments regarding this RFA from any interested party. These comments will be considered in the development of any subsequent RFA for the program. Such comments will be used to meet the requirements of section 103(c)(2) of the Agricultural Research, Extension, and Education Reform Act of 1998 (7 U.S.C. 7613(c)(2)). This section requires the Secretary to solicit and consider input on a current RFA from persons who conduct or use agricultural research, extension and education for use in formulating future RFAs for competitive programs. Comments should be submitted as provided in the ADDRESSES and DATES portions of this announcement.

Catalog of Federal Domestic Assistance

This program is listed in the Catalog of Federal Domestic Assistance under 10.206 for USDA and 43.002 for NASA.

Part I. General

A. Legislative Authority and Background

Section 737 of the General Provisions of the Consolidated Appropriations Resolution, 2003 (Division A of Pub. L. 108-7) provides CSREES with the authority to use up to twenty percent of the amount made available in the Act for the National Research Initiative Competitive Grants Program (NRI), to carry out a competitive grants program under the same terms and conditions as those provided in section 401 of the Agricultural Research, Extension, and Education Reform Act of 1998 (AREERA) (7 U.S.C. 7621).

Section 401 of AREERA established in the Treasury of the United States an account and authorized the Secretary of Agriculture to establish a research, extension, and education competitive grants program to address critical emerging U.S. agricultural and rural issues related to future food production; environmental quality and natural resource management; farm income; or rural, economic and business and community development policy.

The authority for NASA participation in the GES Program is found in the National Aeronautics and Space Administration Act of 1958, as amended, 42 U.S.C. 2473 (c)(5), and section 316 of the National Aeronautics and Space Administration Authorization Act of 2000, Pub. L. 106-391 (7 U.S.C. 5935 note).

B. Purpose, Priorities and Fund Availability

The GES Program supports programmatic activities (1) in states that establish new Geospatial Extension Specialist positions, and (2) in on-going Geospatial Extension Specialist programs. Using funds made available in FY 2003, this RFA solicits GES Program applications for projects that: Improve, through the use of geospatial information, the decision support systems of users at local, county and state levels; improve education in remote sensing and related geospatial technology at the local, county and state levels; and, promote development of a workforce skilled in the use of geospatial technology and integrated with the staffs of user organizations. Examples of activities the GES Program may support are included in Part II, B.

Priority will be given to projects with a documented commitment to initiate or continue a Geospatial Extension Specialist position, that take full advantage of Space Grant, Sea Grant, and Cooperative Extension activities in the state, and that demonstrate links to the user communities within the state (as described in Part II, B.).

There is no commitment by CSREES to fund a particular application or to make a specific number of awards. Beginning with the use of FY 2003 funds in this RFA, the participating agencies anticipate allocating a total of approximately $1 million over three years to fund the GES Program. CSREES's obligation to make award(s) is contingent upon the availability of appropriated funds from which payment can be made and the receipt of proposals that are deemed acceptable for award under this solicitation.

C. Eligibility

The following entities are eligible to apply for and receive a competitive grant: (1) A Federal research agency; (2) a national laboratory; (3) a college or university or a research foundation maintained by a college or university; (4) a private research organization with an established and demonstrated capacity to perform research or technology transfer; or (5) a State agricultural experiment station. Unsolicited applications will not be considered and applications from scientists at non-United States organizations will not be accepted.

Applications are expected to involve the participation of the applicant state's land-grant institution and Space Grant Consortium (SGC). Participation of the applicant state's Sea Grant institution is encouraged, where appropriate. Award recipients may subcontract to organizations not eligible to apply provided such organizations are necessary for the conduct of the project.

USDA and NASA encourage researchers in other U.S. government agencies with remote sensing applications responsibilities to participate as members in no-cost or low-cost applications, but civil servants may not request salary reimbursement. Civil servants in other U.S. government research laboratories are eligible to participate, but also may not request salary reimbursement.

D. Indirect Costs

Section 1462 of the National Agricultural Research, Extension, and Teaching Policy Act of 1977 (7 U.S.C. 3310) requires that CSREES limit the recovery of indirect costs on all competitive awards to 19 percent of total Federal funds provided under the award. Therefore, the recovery of indirect costs on awards made by CSREES under the GES Program may not exceed the lesser of the institution's official negotiated indirect cost rate or the equivalent of 19 percent of total Federal funds awarded. Another method of calculating the maximum allowable is 23.456 percent of the total direct costs. (This limitation also applies to the recovery of indirect costs by any subawardee or subcontractor, and should be reflected in the subrecipient budget.) If no rate has been negotiated, a reasonable dollar amount (equivalent to or less than 19 percent of total Federal funds requested) in lieu of indirect costs may be requested, subject to approval by CSREES. This same indirect cost limitation applies to subcontracts.

E. Matching Requirements

The identification of institutional financial support for the GES position and/or project will be considered an indicator of commitment in the evaluation of applications (see Part IV, B. and Part III, B. 5(e)).

If a grant provides a particular benefit to a specific agricultural commodity, the grant recipient is required to match the USDA funds awarded on a dollar-for-dollar basis from non-Federal sources with cash and/or in-kind contributions.

CSREES may waive the matching funds requirement for a grant if CSREES determines that: (a) the results of the project, while of particular benefit to a specific agricultural commodity, are likely to be applicable to agricultural commodities generally; or (b) the project involves a minor commodity, the project deals with scientifically important research, and the grant recipient is unable to satisfy the matching funds requirement.

F. Funding Restrictions

Funds may not be used for the renovation or refurbishment of research spaces; purchase or installation of fixed equipment in such spaces; or planning, repair, rehabilitation, acquisition, or construction of buildings or facilities.

G. Types of Applications

1. New Position

This is an application from a state where a new Geospatial Extension Specialist position has been created (a state other than the eleven listed in Part II, B.). New Position applications may request a maximum of $100,000 per year for up to three (3) years.

2. Pre-existing Position

This is an application from a state that already has a Geospatial Extension Specialist. Pre-existing Position applications may request a maximum of $50,000 for one year, with the possibility of continuation for two (2) additional years at the same level (see Part II, A. for further information).

Part II. Program Description

A. Project Types

New Position applications may request a maximum of $100,000 per year for up to three (3) years. Pre-existing Position applications may request a maximum of $50,000 for one year, with the possibility of continuation for two (2) additional years at the same level. A continuation grant is a grant instrument by which CSREES agrees to support a specified level of effort for a predetermined project period with a statement of intention to provide additional support at a future date, provided that performance has been satisfactory, appropriations are available for this purpose, and continued support would be in the best interest of the Federal government and the public.

CSREES anticipates funding three (3) New Position applications and two (2) Pre-existing Position applications. Awards will be made as grants or cooperative agreements as determined at the time of each award. Award amounts will depend on reviewers' recommendations, participating agencies' priorities, and the availability of funds.

Funding sponsored projects beyond the grant period will be the responsibility of the state or another source. Funding from NASA's Earth Science Applications Division for the GES Program will be limited to three years in each state. This limitation does not preclude a state's Geospatial Extension Specialist from applying for additional support for specific applications development projects through USDA or NASA research announcements, unsolicited applications or other mechanisms, concurrent with, or following, the term of this support.

B. Program Description

The past decade has witnessed an explosion in the availability and use of information technology. This is especially true in the three allied “geospatial” technologies—remote sensing, GIS, and GPS. Technological advances often have occurred so quickly that many of the most obvious potential users, such as those involved in the use and management of agriculture and natural resources, and urban and regional planning, have been left behind. New sources of data from NASA (e.g., Landsat 7, Terra, and Aqua) and high-resolution data from commercial sources are now available. These new sources of data, accompanied by new methods for data processing and analysis, provide the basis for new applications and increase the challenge of assuring that the broad, potential user community receives the benefits of available technology.

USDA/CSREES, NASA/ESE, the NASA Space Grant program, and NOAA Sea Grant share a commitment to bring science to society by returning the maximum benefit to the American taxpayer from new science and technology. Geospatial Extension Specialist positions help fulfill this commitment by building on existing resources to put geospatial technology to practical use around the country. The GES Program's goal will be met in each state through development and implementation of projects by the Geospatial Extension Specialists that improve the decision support tools of users at local to statewide levels, improve education in remote sensing and geospatial technology, and develop a workforce skilled in geospatial technology and integrated with the staffs of user organizations.

Geospatial Extension Specialists facilitate the use of NASA Earth science capabilities, which include Earth observations from space, modeling and systems engineering, and other geospatial technology (e.g., geographic information systems (GIS) and global positioning systems (GPS)). They provide geospatial information and decision support tools that address the operational needs of users at local, regional and statewide levels. Users include individuals, agencies, groups, and associations in the public, private and educational. Geospatial Extension Specialists also serve as statewide resources for education in remote sensing, GIS, GPS and related technologies.

GES programs have been established in eleven states over the last three years. These programs, in Alabama, Arizona, Connecticut, Mississippi, Nebraska, New Hampshire, North Dakota, Ohio, Oklahoma, Utah and Virginia, are partnerships between land-grant institutions and the NASA SGC within the states. Geospatial Extension Specialist positions are located within the regular Cooperative Extension Service (CES) structure in each participating state, and provide technical support to CES agents and clients (as do other extension specialists). They are eligible for tenure or other comparable professional appointment, and are expected to draw on existing expertise available through the land-grant system, SGC, and the network of NASA Principal Investigators.

States creating new Geospatial Extension Services positions should establish a geospatial technology delivery system at the county level. They can achieve this by building linkages among existing programs, including:

1. NASA Earth Science Enterprise comprised of Earth science results, data, technology and a well-established nationwide research infrastructure. (http://www.earth.nasa.gov).

2. NASA Space Grant comprised of an Earth and space science research, education, and outreach network that exists in each state. (http://www.education.nasa.gov/spacegrant).

3. USDA and Land-Grant Cooperative Extension—a technology transfer network connected with a diverse user base and found in virtually every county of the Nation. (http://www.reeusda.gov/1700/statepartners/usa.htm).

4. National Sea Grant College Program—a technology transfer network for stewardship of marine resources. (http://www.nsgo.seagrant.org/).

The following examples of activities the GES Program may support have been included to suggest approaches to meeting the Program's goals:

1. Decision Support—A primary objective of the GES Program is to initiate projects that will lead to operational use of remote sensing and geospatial technology in the decision support processes of an operational entity. To ensure that the operational focus is maintained, end users must be identified when projects are initiated. End users should be actively involved in defining project goals and routinely involved in developing applications. Participation of the commercial sector in data acquisition, value-added product generation and operations management is encouraged.

2. Education—A second objective of the program is to increase geospatial literacy. The following constituencies need to be addressed:

(a) General public—There is a strong need for a continued awareness campaign for the general public that emphasizes in a non-technical fashion the practical applications of geospatial information technologies and their potential to solve pressing challenges in the state. Examples of such applications are: Natural resource management; disaster management; and business, including real estate, transportation, and insurance.

(b) County extension agents—Within the CES, at the state level, the level of knowledge about geospatial information technologies is uneven and needs to be improved. Educating county extension agents is an important goal since the agents are the resource to which users turn for information. Many other specialists within CES will benefit from the GES Program in their activities.

(c) User groups—The GES Program will conduct education and training of potential user groups in the state, such as farmers, foresters, businesses, disaster management teams, etc.

(d) Youth education—The GES Program will play an important role in youth education through 4-H organizations and through education and outreach programs sponsored by the SGC in the state. The full use of the complementary CES and SGC networks will be key to success.

(e) State and local government personnel—State and local government personnel will benefit from educational and training programs initiated by the GES Program.

3. Workforce Development—The third objective of the GES Program is to develop a workforce skilled in remote sensing and geospatial technology for on-going activities in the states. The Geospatial Extension Specialist will assist the SGC in the state and others in developing a skilled workforce in geospatial information technologies. For example, Space Grant Fellows working with the GES Program will develop skills in applied geospatial research. Real world challenges addressed by the specialist in the state can be integrated into geospatial teaching curricula, thereby enhancing the learning process at the undergraduate level. The specific activities that might be pursued by Geospatial Extension Specialists vary to fit the needs of users in the states.

Additional information about sponsored projects is available online at http://earthgrant.auburn.edu and http://aria.arizona.edu/extension/program.html.

The intent of the program is to maximize impact and “return on investment.” Projects included in applications should focus on significant topics within the state or region. Because Geospatial Extension Specialists are intended to provide meaningful assistance to users within the state, the applications they choose to address should be of high priority for a reasonably large group to insure relevance, visibility and impact. Projects are also encouraged that build on existing resources. NASA (ESE and Space Grant) has built a considerable Earth science infrastructure within the nation. Similarly, through the land-grant system, the states have built an unparalleled research and technology infrastructure that often includes some NASA resources (i.e., NASA PIs and their centers). These existing resources should form the base for proposed activities. The relative strengths of these resources will vary from state to state, but the intent is to build from existing centers and strengths, rather than create new ones.

Activities will be managed cooperatively at the national and state levels. Nationally, the program will be the shared responsibility of NASA, through the Office of Education and the Office of Earth Science (OES); USDA, through CSREES; and NOAA, through the National Sea Grant College Program. A Program Coordinating Group (PCG) comprised of the Space Grant Director at NASA, the manager of the applications research program in the Earth Science Applications Division of NASA/OES, the designated appointee of CSREES for USDA, and the designated appointee of the National Sea Grant College Program for NOAA, will be responsible for operational decisions in the program, subject to review by senior management.

Management of the program at the state level will be led by Geospatial Extension Specialists with concurrence from Directors of the state CES and the SGC, as appropriate. The CES Director will be the primary resource for questions regarding applications and demonstration projects. The state Space Grant Director will be the primary resource for issues related to geospatial research, education and workforce development.

Part III. Preparation of an Application

A. Program Application Materials

The participating agencies have agreed to use the USDA guidelines for application format (see below) and application kit. Program application materials are available at the CSREES Web site (http://www.reeusda.gov/1700/funding/ourfund.htm). If you do not have access to the CSREES web page or have trouble downloading material, you may contact the Proposal Services Unit, Competitive Programs, USDA/CSREES at (202) 401-5048. When calling the Proposal Services Unit, please indicate that you are requesting forms for the Geospatial Extension Specialists Program. These materials may also be requested via Internet by sending a message with your name, mailing address (not e-mail) and phone number to psb@csrees.usda.gov. State that you want a copy of the Program Description and application materials for the FY 2004 Geospatial Extension Specialists Program.

B. Content of Applications

Applications should be prepared following the guidelines and the instructions below. Each application must contain the following elements in the order indicated:

1. General

The application should follow these guidelines, enabling reviewers to more easily evaluate the merits of each application in a systematic, consistent fashion:

(a) The application should be prepared on only one side of the page using standard size (8½″ x 11″) white paper, one inch margins, typed or word processed using no type smaller than 12 point font, and single- or double-spaced. Use an easily readable font face (e.g., Geneva, Helvetica, Times Roman).

(b) Number each page of the application sequentially, starting with the Project Description, including the budget pages, required forms, and any appendices.

(c) Staple the application in the upper left-hand corner. Do not bind. An original and fourteen (14) copies of the application, along with ten (10) additional copies of the Project Summary, must be submitted in one package.

(d) Include original illustrations (photographs, color prints, etc.) in all copies of the application to prevent loss of meaning through poor quality reproduction.

(e) The contents of the application should be assembled in the following order:

(1) Application Cover Page (Form CSREES-2002)

(2) Table of Contents

(3) Project Summary (Form CSREES-2003)

(4) Response to Previous Review (if applicable)

(5) Project Description (see instructions for page limitations)

(6) References to Project Description

(7) Appendices to Project Description

(8) Facilities and Equipment

(9) Key Personnel (vitae and publications list)

(10) Collaborative Arrangements (including letters of support)

(11) Conflict-of-Interest List (Form CSREES-2007)

(12) Budget (Form CSREES-2004)

(13) Budget Narrative

(14) Matching (if required)

(15) Current and Pending Support (Form CSREES-2005)

(16) Assurance Statement(s) (Form CSREES-2008)

(17) Compliance with the National Environmental Policy Act (NEPA) (Form CSREES-2006)

2. Proposal Cover Page (Form CSREES-2002)

Page A. Each copy of each grant application must contain a Proposal Cover Page, Form CSREES-2002. One copy of the application, preferably the original, must contain the pen-and-ink signature(s) of the proposing PDs and the AOR, the individual who possesses the necessary authority to commit the organization's time and other relevant resources to the project. If there are more than three co-PDs for an application, please list additional co-PDs on a separate sheet of paper (with appropriate information and signatures) and attach to the Proposal Cover Page (Form CSREES-2002). Any proposed PD or co-PD whose signature does not appear on Form CSREES-2002 or attached additional sheets will not be listed on any resulting grant award. Complete both signature blocks located at the bottom of the Proposal Cover Page form. Please note that Form CSREES-2002 is comprised of two parts—Page A, which is the “Proposal Cover Page”, and Page B, which is the “Personal Data on Project Director.”

Form CSREES-2002 serves as a source document for the CSREES grant database; it is therefore important that it be accurately completed in its entirety, especially the e-mail addresses requested in Blocks 4.c. and 18.c. However, the following items are highlighted as having a high potential for errors or misinterpretations:

(a) Type of Performing Organization (Block 6.a. and 6.b.). For Block 6.a., a check should be placed in the appropriate box to identify the type of organization which is the legal recipient named in Block 1. Only one box should be checked. For Block 6.b., please check as many boxes that apply to the affiliation of the PD listed in Block 16.

(b) Title of Proposed Project (Block 7). The title of the project must be brief (140-character maximum, including spaces), yet represent the major thrust of the effort being proposed. Project titles are read by a variety of nonscientific people; therefore, highly technical words or phraseology should be avoided where possible. In addition, introductory phrases such as “investigation of,” “research on,” “education for,” or “outreach that” should not be used.

(c) Program to Which You Are Applying (Block 8). Enter “Geospatial Extension Specialists Program” in this block.

(d) DUNS NO. (Data Universal Numbering System) (Block 11.). A DUNS number must be included for the legal recipient named in Block 1. (except applications from individuals). See Part VI, I.

(e) Type of Request (Block 14). Check the appropriate block box for your application. For “Renewals” and “Resubmitted Renewals,” the prior USDA Award No. must be identified.

(f) Project Director (PD) (Blocks 16-19). Blocks 16-18 are used to identify the PD and Block 19 to identify co-PDs. If needed, additional co-PDs may be listed on a separate sheet of paper and attached to Form CSREES-2002, the Proposal Cover Page, with the applicable co-PD information and signatures. Listing multiple co-PDs, beyond those required for genuine collaboration, is discouraged.

(g) Other Possible Sponsors (Block 21). List the names or acronyms of all other public or private sponsors including other agencies within USDA to which your application has been or might be sent. In the event you decide to send your application to another organization or agency at a later date, you must inform the identified CSREES program contact as soon as practicable. Submitting your application to other potential sponsors will not prejudice its review by CSREES; however, submitting the same (i.e., duplicate) application to another CSREES program is not permissible.

Page B. Page B should be submitted only with the original signature copy of the application and should be placed as the last page of the original copy of the application. This page contains personal data on the PD(s). CSREES requests this information in order to monitor the operation of its review and awards processes. This page will not be duplicated or used during the review process. Please note that failure to submit this information will in no way affect consideration of your application.

3. Table of Contents

For ease in locating information, each application must contain a detailed Table of Contents just after the Proposal Cover Page. The Table of Contents should include page numbers for each component of the application. Pagination should begin with the first page of the Project Description.

4. Project Summary (Form CSREES 2003)

The application must contain a Project Summary, Form CSREES-2003. The summary should be approximately 250 words, contained within the box, placed immediately after the Table of Contents, and not numbered. The names and affiliated organizations of all PDs and co-PDs should be listed on this form, in addition to the title of the project. The summary should be a self-contained, specific description of the activity to be undertaken and should focus on: Overall project goal(s) and supporting objectives; plans to accomplish project goal(s); and relevance of the project to the goals of the GES Program. The Project Summary must indicate whether the applicant is requesting funds for a New Position or a Pre-existing Position. The importance of a concise, informative Project Summary cannot be overemphasized. If there are more than three co-PDs for an application, please list additional co-PDs on a separate sheet of paper (with appropriate information) and attach to the Project Summary. (Please check the “Standard Research Proposal” box on the upper right-hand portion of the form under “Proposal Type'.)

5. Project Description

The Project Description must not exceed 18 pages, including tables, diagrams and other visual material. This page limitation applies regardless of whether figures or tables are included. All pages, including those with figures or tables, should be numbered sequentially. Applications exceeding this page limitation may be returned without review. This maximum has been established to ensure fair and equitable competition. The Project Description must include all of the following:

(a) Introduction—A clear statement of the long-term goal(s) and supporting objectives of the proposed activities should be included. Summarize the intention of each project proposed by the Geospatial Extension Specialist, and identify the relevant area of the project (decision support, education or workforce development); and

(b) Relevance and Significance—Identify the objectives of each project including the current state of the intended target process in decision support, education or workforce development, and the improvement that will ensue from the proposed project.

In addition, New Position applications must include the following information about the Geospatial Extension Specialist position:

(1) Organization

Institution—A general description of the institution housing the Geospatial Extension Specialist including name, location and other general information that might be relevant (e.g., number of students; academic strengths; traditional role within the state);

Home unit—A description of the unit in which the position would reside with a rationale explaining that choice; and

Existing institutional resources—Facilities and other resources on which the position could draw either at the home institution or resources offered by other partners (e.g., Space Grant, remote sensing or GIS centers; NASA PIs; service providers in the private sector).

(2) Position Function

Scope—The role the position serves in a broader institutional vision within the Land Grant function (e.g., support of a precision agriculture initiative) as well as the Space Grant function (e.g., support of a Space Grant intern program);

Objectives—The overall objectives of the Geospatial Extension Specialist; and

Activities—The types of activities that the Geospatial Extension Specialist is expected to perform.

(c) Approach—The activities proposed or problems being addressed must be clearly stated and the approaches being applied clearly described. The following should be included: (1) A description of the activities proposed; (2) methods to be used in carrying out the project, including the feasibility of the methods; (3) expected outcomes; (4) means by which results will be analyzed, assessed, or interpreted; and (5) how results or products will be used.

(d) Time Table—Provide an expected timeline for completing the project in the requested duration.

(e) Management Plan—

(1) Management structure—Describe both line authority, and more importantly, cooperating mechanisms through which existing resources or partners might be tapped by the Geospatial Extension Specialist using the Land Grant and Space Grant structures.

(2) Outreach plan—Identify vehicles by which potential users, students, educators, and the public-at-large will be involved in the proposed GES activities. In addition to conventional print media, each project will seek to reach a broader audience through other forms of media. Projects are expected to develop World Wide Web sites that describe the projects, and provide linkages to appropriate NASA/ESE, Space Grant and USDA home pages. Projects are encouraged to find outlets in other media (e.g., popular press, broadcast) to reach an even broader audience. Describe how these outreach efforts will be coordinated through the NASA/ESE, Space Grant and USDA/CSREES outreach teams. NASA Web site requirements are available at http://section508.nasa.gov.

(3) Demonstrated commitments—Provide evidence of commitment to the proposed project on the part of the proposing institution. For collaborating organizations, such evidence should be the same as described in 9., Collaborative and Subcontractual Arrangements (e.g., letter of support).

(4) Anticipated performance metrics—Include anticipated outcomes and impacts of the project on the user community that can be used to evaluate the performance of the GES position and the effectiveness of the project.

(f) Evaluation and Monitoring of Project—Provide a plan for assessing and evaluating the accomplishments of the stated application objectives during the project and describe ways to determine the effectiveness of the end results during and upon termination of the project. Include plans for evaluating and monitoring the administration of the project, as well. This description should include how funds and resources will be allocated so that collaborative participation of all parties is ensured throughout the duration of the project.

6. References in Project Description

All references to works cited should be complete, including titles and all co-authors, and should conform to an accepted journal format. References are not considered in the page limitation for the Project Description.

7. Appendices to Project Description

Each Project Description is expected to be complete, however, additions to the Project Description (appendices) are allowed if they are directly germane to the proposed project and strictly limited to a maximum of two (2) of the following:

(a) Reprints (papers that have been published in peer-reviewed journals); and

(b) Preprints (manuscripts in press for a peer-reviewed journal, must be accompanied by letters of acceptance from the publishing journals).

Manuscripts sent in support of the application should be single-spaced and printed on both sides of the page. Each manuscript must be identified with the name of the submitting organization, the name(s) of the PD(s), and the title of the application, and be securely attached to each copy of the application.

Program staff will not collate applications or application addenda. Information may not be appended to an application to circumvent the page limitations prescribed for the Project Description. Extraneous materials will not be used during the peer review process.

8. Facilities and Equipment

Facilities and major items of equipment that are available for use or assignment to the proposed project during the requested period of support should be described. In addition, items of nonexpendable equipment necessary to conduct and successfully complete the proposed project should be listed (including dollar amounts), and, if funds are requested for their acquisition, justified on a separate page and attached to the budget.

9. Collaborative and Sub-Contractual Arrangements

If it will be necessary to enter into formal consulting or collaborative arrangements with others, such arrangements should be fully explained and justified (e.g., letters of support). In addition, evidence should be provided that the collaborators involved have agreed to render these services. If the consultant(s) or collaborator(s) are known at the time of application, vitae or resume should be provided. The applicant also will be required to provide additional information on consultant(s) and collaborator(s) in the Budget portion of the application. See instructions in the application forms for completing Form CSREES-2004, Budget. For purposes of application development, informal day-to-day contacts between key project personnel and outside experts are not considered to be collaborative arrangements and thus do not need to be detailed.

10. Key Personnel

The following should be included, as applicable:

(a) The roles and responsibilities of each PD and/or collaborator should be clearly described, including an estimate of the time each is committing to the proposed project; and

(b) Vitae for the Geospatial Extension Specialist, senior associates and other professional personnel. This section should include vitae of all key persons who are expected to work on the project, whether or not funding is sought for their support. The vitae should be limited to two (2) pages in length, excluding publications listings. A chronological list of all publications in refereed journals during the past four (4) years, including those in press, must be provided for each project member for whom a vita is provided. Also list only those non-refereed technical publications which have relevance to the proposed project. All authors should be listed in the same order as they appear on each paper cited, along with the title and complete reference as these usually appear in journals.

11. Conflict-of-Interest List (Form CSREES-2007)

A Conflict-of-Interest List, Form CSREES-2007, must be provided for all individuals who have submitted a vita in response to item 10(b) of this part. Each Form CSREES-2007 must list alphabetically, by last names, the full names of the individuals in the following categories: (a) All co-authors on publications within the past four years, including pending publications and submissions; (b) all collaborators on projects within the past four years, including current and planned collaborations; (c) all thesis or postdoctoral advisees/advisors; and (d) all persons in your field with whom you have had a consulting or financial arrangement within the past four years, who stand to gain by seeing the project funded. This form is necessary to assist program staff in excluding from application review those individuals who have conflicts of interest with the personnel in the grant application. The program contact should be informed of any additional conflicts of interest that arise after the application is submitted.

12. Budget

Prepare the budget, Form CSREES-2004, in accordance with instructions provided with the application forms. Budgets should be commensurate with activities proposed. A budget form is required for each year of requested support. In addition, a cumulative budget is required detailing the requested total support for the overall project period. Applicants may include in their requested budgets reasonable travel expenses for Geospatial Extension Specialists whose work is supported through this solicitation to attend two meetings per year, at locations to be determined. The budget form may be reproduced as needed by applicants. Funds may be requested under any of the categories listed on the form, provided that the item or service for which support is requested is allowable under the authorizing legislation, the applicable statutes, regulations, and Federal cost principles, and these program guidelines, and can be justified as necessary for the successful conduct of the proposed project. Applicants must also include a Budget Narrative to justify their budget requests (see 13., below).

13. Budget Narrative

A budget narrative should be included which discusses how the budget specifically supports the proposed project activities. All budget categories, with the exception of indirect costs, for which support is requested must be individually listed (with costs) in the same order as the budget and justified on a separate sheet of paper and placed immediately behind the budget. The budget narrative should explain how each budget item (such as salaries and wages for professional and technical staff, student workers, travel, equipment, etc.) is essential to achieving project objectives. Funds may be requested under any of the categories listed on the budget form, provided that the item or service for which support is sought is allowable under the enabling legislation and the applicable Federal cost principles.

14. Matching

If an applicant concludes that matching funds are not required (as specified under Part I, E.), a justification should be included in the Budget Narrative. CSREES will consider this justification when ascertaining final matching requirements or determining if required matching can be waived. CSREES retains the right to make final determinations regarding matching requirements.

For those grants where matching funds are required, as specified under Part I. E., applications should include written verification of commitments of matching support (including both cash and in-kind contributions) from third parties. Written verification means:

For any third party cash contributions, a separate pledge agreement for each donation, signed by the authorized organizational representative of the donor organization and the applicant organization, which must include: (1) The name, address, and telephone number of the donor; (2) the name of the applicant organization; (3) the title of the project for which the donation is made; (4) the dollar amount of the cash donation; and (5) a statement that the donor will pay the cash contribution during the grant period.

For any third party in-kind contributions, a separate pledge agreement for each contribution, signed by the authorized organizational representatives of the donor organization and the applicant organization, which must include: (1) The name, address, and telephone number of the donor; (2) the name of the applicant organization; (3) the title of the project for which the donation is made; (4) a good faith estimate of the current fair market value of the third party in-kind contribution; and (5) a statement that the donor will make the contribution during the grant period.

The sources and the amount of all matching support from outside the applicant organization should be summarized on a separate page and placed in the application immediately following the Budget Narrative. All pledge agreements must be placed in the application immediately following the summary of matching support.

The value of applicant contributions to the project shall be established in accordance with the applicable cost principles. Applicants should refer to OMB Circulars A-21, Cost Principles for Educational Institutions, A-87, Cost Principles for State, Local, and Tribal Governments, A-122, Cost Principles for Non-Profit Organizations and For-Profit Organizations, and the cost principles in the Federal Acquisition Regulation at 48 CFR 31.2 (see 7 CFR 3015.194) for further guidance and other requirements relating to matching and allowable costs.

15. Assurance Statement(s), (Form CSREES-2008)

A number of situations encountered in the conduct of projects require special assurances, supporting documentation, etc., before funding can be approved for the project. In addition to any other situation that may exist with regard to a particular project, applications involving any of the following elements must comply with the additional requirements, as applicable.

(a) Recombinant DNA or RNA Research. As stated in 7 CFR part 3015.205 (b)(3), all key personnel identified in the application and all endorsing officials of the proposing organization are required to comply with the guidelines established by the National Institutes of Health entitled, “Guidelines for Research Involving Recombinant DNA Molecules,” as revised. If your project proposes to use recombinant DNA or RNA techniques, you must so indicate by checking the “yes” box in Block 20 of Form CSREES-2002 (the Cover Page) and by completing Section A of Form CSREES-2008. For applicable applications recommended for funding, Institutional Biosafety Committee approval is required before funds will be released. Please refer to the application forms for further instructions.

(b) Animal Care. Responsibility for the humane care and treatment of live vertebrate animals used in any grant project supported with funds provided by CSREES rests with the performing organization. Where a project involves the use of living vertebrate animals for experimental purposes, all key project personnel identified in a application and all endorsing officials of the proposing organization are required to comply with the applicable provisions of the Animal Welfare Act of 1966, as amended (7 U.S.C. 2131 et seq.) and the regulations promulgated thereunder by the Secretary in 9 CFR parts 1, 2, 3, and 4 pertaining to the care, handling, and treatment of these animals. If your project will involve these animals, you should check “yes” on Block 20 of CSREES-2002 and complete Section B of Form CSREES-2008. In the event a project involving the use of live vertebrate animals is recommended for a grant award, funds will be released only after the Institutional Animal Care and Use Committee has approved the project. Please refer to the application forms for further instructions.

(c) Protection of Human Subjects. Responsibility for safeguarding the rights and welfare of human subjects used in any grant project supported with funds provided by CSREES rests with the performing organization. Guidance on this issue is contained in the National Research Act, Public Law 93-348, as amended, and implementing regulations promulgated by the Department under 7 CFR part 1c. If you propose to use human subjects for experimental purposes in your project, you should check the “yes” box in Block 20 of Form CSREES-2002 and complete Section C of Form CSREES-2008. In the event a project involving human subjects at risk is recommended for a grant award, funds will be released only after the Institutional Review Board (IRB) has approved the research plan and CSREES has accepted documentation of the approval. Please refer to the application forms for further instructions.

16. Certifications

Note that by signing Form CSREES-2002 the applicant is providing certifications required by 7 CFR part 3017, regarding Debarment and Suspension and Drug Free Workplace, and 7 CFR part 3018, regarding Lobbying. The certification forms are included in the application package for informational purposes only. These forms should not be submitted with the application since by signing form CSREES-2002 your organization is providing the required certifications. If the project will involve a subcontractor or consultant, the subcontractor/consultant should submit a form AD-1048, Certification regarding Debarment, Suspension, Ineligibility and Voluntary Exclusion—Lower Tier Covered Transactions, to the grantee organization for retention in their records. This form should not be submitted to USDA.

17. Compliance With the National Environmental Policy Act (NEPA) (Form CSREES-2006)

As outlined in 7 CFR part 3407 (the CSREES regulations implementing NEPA) and 14 CFR part 1216 (the NASA regulations regarding compliance with NEPA), the environmental data for any proposed project is to be provided to CSREES so that the Federal agency may determine whether any further action is needed. In some cases, however, the preparation of environmental data may not be required. Certain categories of actions are excluded from the requirements of NEPA.

In order for CSREES to determine whether any further action is needed with respect to NEPA, pertinent information regarding the possible environmental impacts of a proposed project is necessary; therefore, Form CSREES-2006, NEPA Exclusions Form, must be included in the application indicating whether the applicant is of the opinion that the project falls within a categorical exclusion and the reasons therefore. If it is the applicant's opinion that the proposed project falls within the categorical exclusions, the specific exclusion(s) must be identified.

Even though a project may fall within the categorical exclusions, CSREES may determine that an Environmental Assessment or Environmental Impact Statement is necessary for an activity, if substantial controversy on environmental grounds exists or if other extraordinary conditions or circumstances are present which may cause such activity to have a significant environmental effect.

C. Submission of Applications

1. When To Submit (Deadline Date)

Applications must be received by COB on March 1, 2004 (5 p.m. eastern standard time). Applications received after this deadline will not be considered for funding.

2. What To Submit

An original and fourteen (14) copies of the application must be submitted. In addition, submit ten (10) copies of the application's Project Summary, Form CSREES-2003. All copies of the application must be submitted in one package.

3. Where To Submit

Applicants are strongly encouraged to submit completed applications via overnight mail or delivery service to ensure timely receipt by USDA. The address for hand-delivered applications or applications submitted using an express mail or overnight courier service is: Geospatial Extension Specialists Program, c/o Proposal Services Unit, Cooperative State Research, Education, and Extension Service, U.S. Department of Agriculture, Room 1420, Waterfront Centre, 800 9th Street, SW., Washington, DC 20024, Telephone: (202) 401-5048.

Applications sent via the U.S. Postal Service must be sent to the following address: Geospatial Extension Specialists Program, c/o Proposal Services Unit, Cooperative State Research, Education, and Extension Service, U.S. Department of Agriculture, STOP 2245, 1400 Independence Avenue, SW., Washington, DC 20250-2245.

D. Acknowledgment of Applications

The receipt of all applications will be acknowledged by e-mail. Therefore, applicants are strongly encouraged to provide accurate e-mail addresses, where designated, on the Form CSREES-2002. If the applicant's e-mail address is not indicated, CSREES will acknowledge receipt of the application by letter.

Applicants who do not receive an acknowledgment within 60 days of the submission deadline should contact the program contact. Once the application has been assigned a proposal number, that number should be cited on all future correspondence.

Part IV. Review Process

A. General

Each application will be evaluated in a two-part process. First, each application will be screened to ensure that it meets the administrative requirements as stated in the RFA. Applications that do not fall within the guidelines as stated in the RFA will be eliminated from program competition and returned to applicants. Second, a review panel will technically evaluate applications that meet these requirements. Written comments will be solicited from ad hoc reviewers when required, and individual written comments and in-depth discussions will be provided by a peer review panel prior to recommending applications for funding.

Reviewers will be selected based upon their training and experience in relevant scientific, extension, or education fields taking into account the following factors: (a) The level of relevant formal scientific, technical education, or extension experience of the individual, as well as the extent to which an individual is engaged in relevant research, education or extension activities; (b) the need to include as reviewers experts from various areas of specialization within relevant scientific, education, or extension fields; (c) the need to include as reviewers other experts (e.g., producers, range or resource managers/operators, and consumers) who can assess relevance of the applications to targeted audiences and to program needs; (d) the need to include as peer reviewers experts from a variety of organizational types (e.g., colleges, universities, industry, state and Federal agencies, private profit and non-profit organizations) and geographic locations; (e) the need to maintain a balanced composition of reviewers with regard to minority and female representation and an equitable age distribution; and (f) the need to include reviewers who can judge the effective usefulness to producers and the general public of each application.

B. Evaluation Criteria

Priority will be given to projects with a documented commitment to initiate or continue a Geospatial Extension Specialist position, that take full advantage of Space Grant and Cooperative Extension activities in the state, and that demonstrate links to the user communities within the state.

The following numbered evaluation criteria will be weighted equally and used to review all applications submitted in response to this RFA:

1. Technical Approach

(a) Suitability of the proposed project in terms of addressing significant issues and the probability of meeting stated objectives;

(b) Feasibility, soundness, logic and practicality of the proposed technical methods and concepts for achieving successful applications research;

(c) Clear identification of user needs and user benefits from proposed products or services; and

(d) Centrality of Earth science, remote sensing, and other geospatial technologies to achieving program objectives.

2. Cost-Effectiveness

The demonstrated commitment of cooperative extension (or other university-based extension effort) and/or the Space Grant Consortium to long-term support of the Geospatial Extension Specialist position.

3. Management and Experience

(a) Demonstrated competence and relevant experience of project personnel as an indication of their ability to carry the proposed activity to a successful conclusion as a team;

(b) Feasibility of the management approach as it relates to the methods and concepts demonstrated by the application;

(c) Feasibility of the outreach plan and the soundness of the philosophy and methods by which it is effected;

(d) Degree to which all participants in the application and users are integrated into the proposed activities with well-defined and appropriate roles; and

(e) Adequacy of the facilities and equipment to support the proposed activity.

4. Metrics

The adequacy of metrics and other statistics to be collected that will measure the success of the activity.

C. Conflicts of Interest and Confidentiality

During the peer evaluation process, extreme care will be taken to prevent any actual or perceived conflicts of interest that may impact review or evaluation. For the purpose of determining conflicts of interest, the academic and administrative autonomy of an academic institution shall be determined by reference to the current version of the Higher Education Directory, published by Higher Education Publications, Inc., 6400 Arlington Boulevard, Suite 648, Falls Church, VA 22042. Phone: (703) 532-2300. Web site: http://www.hepinc.com.

Names of submitting institutions and individuals, as well as application content and peer evaluations, will be kept confidential, except to those involved in the review process, to the extent permitted by law. In addition, the identities of peer reviewers will remain confidential throughout the entire review process. Therefore, the names of the reviewers will not be released to applicants. At the end of the fiscal year, names of reviewers will be made available in such a way that the reviewers cannot be identified with the review of any particular application.

Part V. Award Administration

A. General

The GES Program will be administered by CSREES but managed as an interagency program involving participating agencies throughout the entire process from the development of the program announcement, to the review, recommendation and monitoring of awards. The interagency program managers will coordinate program administration activities such as review of periodic reporting of project evaluations and annual investigator team meetings.

The amount of each award will be determined jointly by USDA and NASA and their representatives after the panel review process has been completed.

Within the limit of funds available for such purpose, CSREES shall make awards to those responsible, eligible applicants whose applications are judged most meritorious under the procedures set forth in this RFA. It should be noted that the project need not be initiated on the award effective date, but as soon thereafter as practicable so that project goals may be attained within the funded project period. All funds granted by CSREES under this RFA shall be expended solely for the purpose for which the funds are granted in accordance with the approved application and budget, the terms and conditions of the award, the applicable Federal cost principles, and the applicable participating agencies' assistance regulations.

B. Organizational Management Information

Specific management information relating to an applicant shall be submitted on a one-time basis as part of the responsibility determination prior to the award of a grant under this RFA if such information has not been provided previously under this or another program for which the sponsoring agency is responsible. CSREES will provide copies of forms recommended for use in fulfilling these requirements as part of the pre-award process. Although an applicant may be eligible based on its status as one of these entities, there are factors that may exclude an applicant from receiving Federal financial and non-financial assistance and benefits under this program (e.g., debarment or suspension of an individual involved or a determination that an applicant is not responsible based on submitted organizational management information).

C. Award Document and Notice of Award

The award document will provide pertinent instructions and information including, at a minimum, the following:

1. Legal name and address of performing organization or institution to whom the CSREES Administrator has issued an award under the terms of this request for applications;

2. Title of project;

3. Name(s) and institution(s) of PDs chosen to direct and control approved activities;

4. Identifying award number assigned by CSREES;

5. Project period, specifying the amount of time CSREES intends to support the project without requiring recompetition for funds;

6. Total amount of financial assistance approved by the CSREES Administrator during the project period;

7. Appropriate Catalog of Federal Domestic Assistance (CFDA) number;

8. Legal authority(ies) under which the grant is made;

9. Applicable award terms and conditions (see http://www.reeusda.gov/crgam/oep/awardterms.htm to view CSREES award terms and conditions);

10. Approved budget plan for categorizing allocable project funds to accomplish the stated purpose of the award; and

11. Other information or provisions deemed necessary by CSREES to carry out its respective awarding activities or to accomplish the purpose of a particular award.

Part VI. Additional Information

A. Access To Review Information

Copies of reviews, not including the identity of reviewers, and a summary of the panel comments will be sent to the applicant PD after the review process has been completed.

B. Use of Funds; Changes

1. Delegation of Fiscal Responsibility

Unless the terms and conditions of the award state otherwise, the awardee may not in whole or in part delegate or transfer to another person, institution, or organization the responsibility for use or expenditure of award funds.

2. Changes in Project Plans

(a) The permissible changes by the awardee, PD(s), or other key project personnel in the approved project shall be limited to changes in methodology, techniques, or other similar aspects of the project to expedite achievement of the project's approved goals. If the awardee or the PD(s) is uncertain as to whether a change complies with this provision, the question must be referred to the CSREES Authorized Departmental Officer (ADO) for a final determination.

(b) Changes in approved goals or objectives shall be requested by the awardee and approved in writing by the CSREES ADO prior to effecting such changes. In no event shall requests for such changes be approved which are outside the scope of the original approved project.

(c) Changes in approved project leadership or the replacement or reassignment of other key project personnel shall be requested by the awardee and approved in writing by the CSREES ADO prior to effecting such changes.

(d) Transfers of actual performance of the substantive programmatic work in whole or in part and provisions for payment of funds, whether or not Federal funds are involved, shall be requested by the awardee and approved in writing by the CSREES ADO prior to effecting such transfers, unless prescribed otherwise in the terms and conditions of the award.

(e) Changes in Project Period: The project period may be extended by the awarding agency without additional financial support, for such additional period(s) as the CSREES ADO determines to be necessary to complete or fulfill the purposes of an approved project, but in no case shall the total project period exceed five years. Any extension of time shall be conditioned upon prior request by the awardee and approval in writing by the CSREES ADO, unless prescribed otherwise in the terms and conditions of award.

(f) Changes in Approved Budget: Changes in an approved budget must be requested by the awardee and approved in writing by the CSREES ADO prior to instituting such changes if the revision will involve transfers or expenditures of amounts requiring prior approval as set forth in the applicable Federal cost principles, Departmental regulations, or award.

C. Expected Program Outputs and Reporting Requirements

The ultimate success of projects funded under this solicitation is the continuation of Geospatial Extension Specialist positions beyond the project period and the positive demonstrable impact these projects have on the user community. Toward that end, grantees are expected to provide semi-annual and annual progress reports describing the activities of the Geospatial Extension Specialist. Geospatial Extension Specialists whose work is supported through this solicitation should plan to attend two meetings per year, at locations to be determined, of all Geospatial Extension Specialists and appropriate CSREES, NASA and NOAA staff. Applicants may include reasonable travel expenses related to this requirement in their requested project budgets (see Part III, B., 12.).

D. Applicable Federal Statutes and Regulations

The following Federal statutes and regulations apply to grant applications considered for review and to project grants awarded by USDA under this program:

7 CFR Part 1, Subpart A—USDA implementation of the Freedom of Information Act.

7 CFR Part 3—USDA implementation of OMB Circular No. A-129 regarding debt collection.

7 CFR Part 15, Subpart A—USDA implementation of Title VI of the Civil Rights Act of 1964, as amended.

7 CFR Part 331 and 9 CFR Part 121—USDA implementation of the Agricultural Bioterrorism Protection Act of 2002.

7 CFR Part 3015—USDA Uniform Federal Assistance Regulations, implementing OMB directives (i.e., OMB Circular Nos. A-21 and A-122) and incorporating provisions of 31 U.S.C. 6301-6308 (formerly the Federal Grant and Cooperative Agreement Act of 1977, Pub. L. 95-224), as well as general policy requirements applicable to recipients of Departmental financial assistance.

7 CFR Part 3017—USDA implementation of Governmentwide Debarment and Suspension (Nonprocurement) and Governmentwide Requirements for Drug-Free Workplace (Grants).

7 CFR Part 3018—USDA implementation of Restrictions on Lobbying. Imposes prohibitions and requirements for disclosure and certification related to lobbying on recipients of Federal contracts, grants, cooperative agreements, and loans.

7 CFR Part 3019—USDA implementation of OMB Circular A-110, Uniform Administrative Requirements for Grants and Other Agreements With Institutions of Higher Education, Hospitals, and Other Nonprofit Organizations.

7 CFR Part 3052—USDA implementation of OMB Circular No. A-133, Audits of States, Local Governments, and Non-profit Organizations.

7 CFR Part 3407—CSREES procedures to implement the National Environmental Policy Act of 1969, as amended.

29 U.S.C. 794 (sec. 504, Rehabilitation Act of 1973) and 7 CFR Part 15b (USDA implementation of statute)—prohibiting discrimination based upon physical or mental handicap in Federally assisted programs.

35 U.S.C. 200 et seq.—Bayh-Dole Act, controlling allocation of rights to inventions made by employees of small business firms and domestic nonprofit organizations, including universities, in Federally assisted programs (implementing regulations are contained in 37 CFR part 401).

E. Safety

Safety is the freedom from those conditions that can cause death, injury, occupational illness, damage to or loss of equipment or property, or damage to the environment. NASA's safety priority is to protect: (1) The public, (2) astronauts and pilots, (3) the NASA workforce (including employees working under NASA award instruments), and (4) high-value equipment and property.

F. Confidential Aspects of Applications and Awards

When an application results in an award, it becomes a part of the record of CSREES transactions, available to the public upon specific request. Information that the CSREES Administrator determines to be of a confidential, privileged, or proprietary nature will be held in confidence to the extent permitted by law. Therefore, any information that the applicant wishes to have considered as confidential, privileged, or proprietary should be clearly marked within the application. The original copy of an application that does not result in an award (including those that are withdrawn) will be retained by CSREES for a period of one year. Other copies will be destroyed. Such an application will be released only with the consent of the applicant or to the extent required by law. An application may be withdrawn at any time prior to the final action thereon; however withdrawn applications normally will not be returned.

G. Regulatory Information

For the reasons set forth in the final Rule-related Notice to 7 CFR part 3015, subpart V (48 FR 29114, June 24, 1983), this program is excluded from the scope of the Executive Order 12372 which requires intergovernmental consultation with State and local officials. Under the provisions of the Paperwork Reduction Act of 1995 (44 U.S.C. chapter 35), the collection of information requirements contained in this notice have been approved under OMB Document No. 0524-0039.

H. Grants.gov Implementation Plans

Grants.gov is an Internet Web site for grant and other financial assistance information (e.g., allows grant seekers to find funding opportunities). It also will serve to facilitate electronic transmission of information pertaining to grants and other financial assistance information (e.g., electronic application submission).

Beginning in February 2004, CSREES plans to initiate, on a limited basis, the receipt of applications electronically through the Grants.gov (http://www.grants.gov) storefront. The ability to expand the plan for electronically submitting applications is contingent on the success of the initial electronic application submissions. Detailed information about CSREES’ Grants.gov plans, including important announcements, program implementation, and detailed requirements, is posted on the CSREES’ Web site, http://www.reeusda.gov/egov/csrees/implementation.htm, which will be updated as appropriate. It is suggested that this site be visited periodically for important updates.

I. DUNS Number

A Dun and Bradstreet (D&B) Data Universal Numbering System (DUNS) number is a unique nine-digit sequence recognized as the universal standard for identifying and keeping track of over 70 million businesses worldwide. A Federal Register notice of final policy issuance (68 FR 38402) requires a DUNS number in every application (i.e., hard copy and electronic) for a grant or cooperative agreement (except applications from individuals) submitted on or after October 1, 2003. Therefore, potential applicants should verify that they have a DUNS number or take the steps needed to obtain one. For information about how to obtain a DUNS number go to http://www.grants.gov. Please note that the registration may take up to 14 business days to complete.

J. Required Registration for Grants.gov

The Central Contract Registry (CCR) is a database that serves as the primary Government repository for contractor information required for the conduct of business with the Government. This database will also be used as a central location for maintaining organizational information for organizations seeking and receiving grants from the Government. Such organizations must register in the CCR prior to the submission of applications via Grants.gov (a DUNS number is needed for CCR registration). For information about how to register in the CCR visit http://www.grants.gov. Allow a minimum of 5 days to complete the CCR registration.

Done at Washington, DC, this 21st day of November, 2003.
Colien Hefferan,
Administrator, Cooperative State Research, Education, and Extension Service.

[FR Doc. 03-29761 Filed 11-28-03; 8:45 am]

BILLING CODE 3410-22-P